DEPARTMENT OF TRANSPORTATION

Maritime Administration

[Docket No. MARAD-2018-0548]

Request for Comments on the Renewal of a Previously Approved Information Collection: Quarterly Readiness of Strategic Seaport Facilities Reporting

AGENCY: Maritime Administration, Department of Transportation.

ACTION: Notice and request for comments.

SUMMARY: In compliance with the Paperwork Reduction Act of 1995, this notice announces that the Information Collection Request (ICR) abstracted below is being forwarded to the Office of Management and Budget (OMB) for review and comments. The collected information will be used by MARAD and Department of Defense (DoD) personnel to evaluate strategic commercial seaport readiness to meet contingency military deployment needs and make plans for the use of this capability to meet national emergency requirements. A Federal Register Notice with a 60-day comment period soliciting comments on the following information collection was published on February March 5, 2018 (Federal Register 9363, Vol. 83, No. 43).

DATES: Comments must be submitted on or before June 22, 2018.

ADDRESSES: Send comments regarding the burden estimate, including suggestions for reducing the burden, to the Office of Management and Budget, Attention: Desk Officer for the Office of the Secretary of Transportation, 725 17th Street NW, Washington, DC 20503. Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

FOR FURTHER INFORMATION CONTACT: Nuns Jain, (757) 322-5801, Maritime Administration, U.S. Department of Transportation, 7737 Hampton Boulevard, Building 19, Suite 300, Norfolk, VA 23505 or Email: nuns.jain@dot.gov.

SUPPLEMENTARY INFORMATION:

Title: Quarterly Readiness of Strategic Seaport Facilities Reporting.

OMB Control Number: 2133-0548.

Type of Request: Renewal of a Previously Approved Information Collection.

Abstract: Pursuant to the Defense Production Act of 1950, as amended (Pub. L. 111-67), E.O. 13603, E.O. 12656 and 46 CFR part 340, MARAD works with the DoD to ensure national defense preparedness. Accordingly, MARAD issues Port Planning Orders (PPOs) to Department of Defense-designated Strategic Commercial Seaports in order to provide the Department of Defense (DoD) port facilities in support of military deployments during national emergencies. The collection of quarterly information is necessary to validate the port's ability to provide the PPO delineated facilities to the DoD within the PPO delineated time frame. Quarterly reports will seek information related to berthing capability, staging and general availability of the port by readiness hours.

Respondents: Strategic Commercial Seaports who have been designated by the Commander, Military Surface Deployment and Distribution Command (SDDC) and who have been issued a PPO by MARAD.

Affected Public: Business and other for Profit.

Estimated Number of Respondents: 16.

Estimated Number of Responses: 64 (four per respondent).

Estimated Hours per Response: 1.

Annual Estimated Total Annual Burden Hours: 64.

Frequency of Response: Annually.

(Authority: The Paperwork Reduction Act of 1995; 44 U.S.C. Chapter 35, as amended; and 49 CFR 1.93.)

* * * * *

By Order of the Maritime Administrator.
Dated: May 18, 2018.
T. Mitchell Hudson, Jr.,
Secretary, Maritime Administration.

[FR Doc. 2018-11071 Filed 5-22-18; 8:45 am]

BILLING CODE 4910-81-P